DEPARTMENT OF ENERGY

Federal Energy Regulatory Commission

Combined Notice of Filings #1

Take notice that the Commission received the following electric corporate filings:

Docket Numbers: EC13-87-000.

Applicants: BlackRock, Inc.

Description: Request for Reauthorization and Extension of Blanket Authorizations Under Section 203 of the Federal Power Act and Request for Expedited Consideration of BlackRock, Inc.

Filed Date: 4/1/13.

Accession Number: 20130401-5338.

Comments Due: 5 p.m. ET 4/22/13.

Docket Numbers: EC13-88-000.

Applicants: Lease Plan North America, LLC.

Description: Application of Lease Plan North America, LLC for Authorization Under Section 203 of the Federal Power Act, Requests for Confidential Treatment and Waivers, and Request for Expedited Consideration.

Filed Date: 4/2/13.

Accession Number: 20130402-5065.

Comments Due: 5 p.m. ET 4/23/13.

Take notice that the Commission received the following electric rate filings:

Docket Numbers: ER10-3117-001; ER10-1093-002; ER10-1097-002.

Applicants: Lea Power Partners, LLC, Delaware City Refining Company, LLC, PBF Power Marketing LLC.

Description: Supplement to Lea Power Partners, LLC's January 7, 2013 Updated Market Power Analysis and Order No. 697 Compliance Filing.

Filed Date: 4/2/13.

Accession Number: 20130402-5076.

Comments Due: 5 p.m. ET 4/23/13.

Docket Numbers: ER10-3193-002.

Applicants: Brooklyn Navy Yard Cogeneration Partners.

Description: Brooklyn Navy Yard Cogeneration Partners, L.P. submits FERC MBR Tariff to be effective 4/3/2013.

Filed Date: 4/2/13.

Accession Number: 20130402-5068.

Comments Due: 5 p.m. ET 4/23/13.

Docket Numbers: ER11-3417-004; ER10-2895-007; ER11-2292-006; ER11-3942-005; ER11-2293-006; ER10-2917-007; ER11-2294-006; ER12-2447-004; ER10-2918-008; ER12-199-007; ER10-2920-007; ER10-1900-005; ER11-3941-005; ER10-2921-007; ER10-2922-007; ER10-3048-005; ER10-2966-007.

Applicants: Alta Wind VIII, LLC, Bear Swamp Power Company LLC, Brookfield Energy Marketing, Inc, Brookfield Energy Marketing, LP, Brookfield Energy Marketing US LLC, Brookfield Power Piney & Deep Creek LLC, Brookfield Renewable Energy Marketing US, LLC, Brookfield Smoky Mountain Hydropower LLC, Carr Street Generating Station, L.P., Coram California Development, LP, Erie Boulevard Hydropower, L.P., FPL Energy Maine Holdings, LLC, Granite Reliable Power, LLC, Great Lakes Hydro America, LLC, Hawks Nest Hydro LLC, Longview Fibre Paper and Packaging, Inc., Rumford Falls Hydro LLC.

Description: Notice of Change in Status of the Brookfield Companies.

Filed Date: 4/1/13.

Accession Number: 20130401-5335.

Comments Due: 5 p.m. ET 4/22/13.

Docket Numbers: ER12-337-001.

Applicants: Mississippi Power Company.

Description: Mississippi Power Company submits 2011 MRA Rate Case Compliance Filing to be effective 4/1/2012.

Filed Date: 4/1/13.

Accession Number: 20130401-5311.

Comments Due: 5 p.m. ET 4/22/13.

Docket Numbers: ER13-685-003.

Applicants: Public Service Company of New Mexico.

Description: Compliance Filing Docket ER13-685 to be effective N/A.

Filed Date: 4/1/13.

Accession Number: 20130401-5278.

Comments Due: 5 p.m. ET 4/22/13.

Docket Numbers: ER13-687-002.

Applicants: Public Service Company of New Mexico.

Description: Compliance Filing Docket ER13-687 to be effective N/A.

Filed Date: 4/1/13.

Accession Number: 20130401-5281.

Comments Due: 5 p.m. ET 4/22/13.

Docket Numbers: ER13-690-002.

Applicants: Public Service Company of New Mexico.

Description: Compliance Filing in Docket ER13-690 to be effective 8/2/2013.

Filed Date: 4/1/13.

Accession Number: 20130401-5284.

Comments Due: 5 p.m. ET 4/22/13.

Docket Numbers: ER13-996-000.

Applicants: ATO Power, Inc.

Description: Amendment to February 27, 2013 Petition of ATO Power, Inc.

Filed Date: 3/8/13.

Accession Number: 20130308-5051.

Comments Due: 5 p.m. ET 4/9/13.

Docket Numbers: ER13-1220-000.

Applicants: Duquesne Light Company, PJM Interconnection, L.L.C.

Description: Duquesne submits new OATT Attachment H-17C to be effective 6/1/2013.

Filed Date: 4/1/13.

Accession Number: 20130401-5283.

Comments Due: 5 p.m. ET 4/22/13.

Docket Numbers: ER13-1221-000.

Applicants: Mississippi Power Company.

Description: Mississippi Power Company submits MRA 24 Rate Case Filing to be effective 4/1/2013.

Filed Date: 4/1/13.

Accession Number: 20130401-5313.

Comments Due: 5 p.m. ET 4/22/13.

Docket Numbers: ER13-1222-000.

Applicants: NV Energy, Inc.

Description: OATT Revisions to Attachment N—LGIA and Attachment O—SGIA Compliance filing to be effective 3/1/2013.

Filed Date: 4/2/13.

Accession Number: 20130402-5002.

Comments Due: 5 p.m. ET 4/23/13.

Docket Numbers: ER13-1223-000.

Applicants: PJM Interconnection, L.L.C.

Description: PJM Interconnection, L.L.C. submits Notice of Cancellation of Original SA No. 3078 in Docket No. ER12-108-000 to be effective 3/8/2013.

Filed Date: 4/2/13.

Accession Number: 20130402-5050.

Comments Due: 5 p.m. ET 4/23/13.

Docket Numbers: ER13-1224-000.

Applicants: PJM Interconnection, L.L.C.

Description: PJM Interconnection, L.L.C. submits Notice of Cancellation of Wholesale Market Participant Service Agreement No. 2213.

Filed Date: 4/2/13.

Accession Number: 20130402-5052.

Comments Due: 5 p.m. ET 4/23/13.

Docket Numbers: ER13-1225-000.

Applicants: Midwest Independent Transmission System Operator, Inc.

Description: Midwest Independent Transmission System Operator, Inc. submits 04-02-2013 Sch 43B DTE SSR Agreement to be effective 10/1/2012.

Filed Date: 4/2/13.

Accession Number: 20130402-5092.

Comments Due: 5 p.m. ET 4/23/13.

Docket Numbers: ER13-1226-000.

Applicants: Midwest Independent Transmission System Operator, Inc.

Description: Midwest Independent Transmission System Operator, Inc. submits 04-02-2013 SA 6501 DTE SSR Agreement to be effective 10/1/2012.

Filed Date: 4/2/13.

Accession Number: 20130402-5093.

Comments Due: 5 p.m. ET 4/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2013.
Nathaniel J. Davis, Sr.,
Deputy Secretary.

[FR Doc. 2013-08343 Filed 4-9-13; 8:45 am]

BILLING CODE 6717-01-P